DEPARTMENT OF THE INTERIOR

Bureau of Reclamation

Quarterly Status Report of Water Service, Repayment, and Other Water-Related Contract Negotiations

AGENCY: Bureau of Reclamation, Interior.

ACTION: Notice.

SUMMARY: Notice is hereby given of contractual actions that have been proposed to the Bureau of Reclamation and are new, modified, discontinued, or completed since the last publication of this notice on April 10, 2009. This notice is one of a variety of means used to inform the public about proposed contractual actions for capital recovery and management of project resources and facilities consistent with section 9(f) of the Reclamation Project Act of 1939. In addition, notice is hereby given of contractual actions for extraordinary maintenance and replacement pursuant to the American Recovery and Reinvestment Act of 2009 (Pub. L. 111-5). Additional announcements of individual contract actions may be published in the Federal Register and in newspapers of general circulation in the areas determined by Reclamation to be affected by the proposed action.

ADDRESSES: The identity of the approving officer and other information pertaining to a specific contract proposal may be obtained by calling or writing the appropriate regional office at the address and telephone number given for each region in the SUPPLEMENTARY INFORMATION section.

FOR FURTHER INFORMATION CONTACT: Michelle Kelly, Water and Environmental Resources Office, Bureau of Reclamation, PO Box 25007, Denver, Colorado 80225-0007; telephone 303-445-2888.

SUPPLEMENTARY INFORMATION: Pursuant to section 9(f) of the Reclamation Project Act of 1939 and the rules and regulations published in 52 FR 11954, April 13, 1987 (43 CFR 426.22). Reclamation will publish notice of proposed or amendatory contract actions for any contract for the delivery of project water for authorized uses in newspapers of general circulation in the affected area prior to contract execution. In addition, Reclamation may publish notice of proposed contractual actions for extraordinary maintenance and replacement pursuant to the ARRA. Announcements may be in the form of news releases, legal notices, official letters, memorandums, or other forms of written material. Meetings, workshops, and/or hearings may also be used, as appropriate, to provide local publicity. The public participation procedures do not apply to proposed contracts for the sale of surplus or interim irrigation water for a term of 1 year or less. Either of the contracting parties may invite the public to observe contract proceedings. All public participation procedures will be coordinated with those involved in complying with the National Environmental Policy Act. Pursuant to the “Final Revised Public Participation Procedures” for water resource-related contract negotiations, published in 47 FR 7763, February 22, 1982, a tabulation is provided of all proposed contractual actions in each of the five Reclamation regions. When contract negotiations are completed, and prior to execution, each proposed contract form must be approved by the Secretary of the Interior, or pursuant to delegated or redelegated authority, the Commissioner of Reclamation or one of the regional directors. In some instances, congressional review and approval of a report, water rate, or other terms and conditions of the contract may be involved.

Public participation in and receipt of comments on contract proposals will be facilitated by adherence to the following procedures:

1. Only persons authorized to act on behalf of the contracting entities may negotiate the terms and conditions of a specific contract proposal.

2. Advance notice of meetings or hearings will be furnished to those parties that have made a timely written request for such notice to the appropriate regional or project office of Reclamation.

3. Written correspondence regarding proposed contracts may be made available to the general public pursuant to the terms and procedures of the Freedom of Information Act, as amended.

4. Written comments on a proposed contract or contract action must be submitted to the appropriate regional officials at the locations and within the time limits set forth in the advance public notices.

5. All written comments received and testimony presented at any public hearings will be reviewed and summarized by the appropriate regional office for use by the contract approving authority.

6. Copies of specific proposed contracts may be obtained from the appropriate regional director or his designated public contact as they become available for review and comment.

7. In the event modifications are made in the form of a proposed contract, the appropriate regional director shall determine whether republication of the notice and/or extension of the comment period is necessary.

Factors considered in making such a determination shall include, but are not limited to (i) the significance of the modification, and (ii) the degree of public interest which has been expressed over the course of the negotiations. At a minimum, the regional director shall furnish revised contracts to all parties who requested the contract in response to the initial public notice.

Definitions of Abbreviations Frequently Used in This Document
ARRA | American Recovery and Reinvestment Act of 2009.
BCP | Boulder Canyon Project.
Reclamation | Bureau of Reclamation.
CAP | Central Arizona Project.
CVP | Central Valley Project.
CRSP | Colorado River Storage Project.
FR | Federal Register.
IDD | Irrigation and Drainage District.
ID | Irrigation District.
M&I | Municipal and Industrial.
NMISC | New Mexico Interstate Stream Commission.
O&M | Operation and Maintenance.
P-SMBP | Pick-Sloan Missouri Basin Program.
PPR | Present Perfected Right.
RRA | Reclamation Reform Act of 1982.
SOD | Safety of Dams.
SRPA | Small Reclamation Projects Act of 1956.
USACE | U.S. Army Corps of Engineers.
WD | Water District.

Pacific Northwest Region: Bureau of Reclamation, 1150 North Curtis Road, Suite 100, Boise, Idaho 83706-1234, telephone 208-378-5344.

New Contract Actions

14. Willow Creek Group, Willow Creek Project Oregon: Irrigation water service contract for up to 2,500 acre-feet of project water.

15. Water user entities responsible for payment of operation and maintenance costs for Reclamation projects in Idaho, Montana, Oregon, Washington, and Wyoming: Contracts for extraordinary maintenance and replacement funded pursuant to the ARRA.

Mid-Pacific Region: Bureau of Reclamation, 2800 Cottage Way, Sacramento, California 95825-1898, telephone 916-978-5250.

New Contract Action

38. Water user entities responsible for payment of operation and maintenance costs for Reclamation projects in California, Nevada, and Oregon: Contracts for extraordinary maintenance and replacement funded pursuant to the ARRA.

Modified Contract Action

36. County of Tulare, CVP, California: Proposed assignment of County of Tulare's Cross Valley Canal water supply in the amount of 5,308 acre-feet to its various subcontractors. Water will be used for both irrigation and M&I purposes.

Lower Colorado Region: Bureau of Reclamation, PO Box 61470 (Nevada Highway and Park Street), Boulder City, Nevada 89006-1470, telephone 702-293-8192.

New Contract Actions

14. White Mountain Apache Tribe, Miner Flat Project, Arizona: Execution of a contract to repay any amounts loaned to the Tribe pursuant to Section 3 of Public Law 110-390.

15. Queen Creek Water Company, CAP, Arizona: Assignment of Queen Creek Water Company's 348 acre-feet entitlement to the Town of Queen Creek, per Queen Creek Water Company's request and as recommended by the Arizona Department of Water Resources.

16. Gila Monster Farms, Inc., BCP, Arizona: Request for partial assignment and transfer of third-priority water entitlement for domestic use to Aursa, AZ I, LLC.

17. Gila Monster Farms, Inc., BCP, Arizona: Amend contract to decrease Gila Monster Farms' third-priority water entitlement.

18. Aursa, AZ I, LLC, BCP, Arizona: Enter into a new Section 5 contract with Aursa for 2,126 acre-feet per year of third-priority water being assigned to Aursa from Gila Monster Farms.

19. Arizona State Lands Department, BCP, Arizona: Amend contract No. 4-07-30-W0317 to decrease the Department's fourth-priority agricultural water entitlement that is being assigned to the Department's fourth-priority domestic water entitlement contract No. 7-07-30-W0358 to change the type of use from agricultural to domestic use.

20. Arizona State Lands Department, BCP, Arizona: Amend the Department's contract No. 7-07-30-W0358 to increase the Department's fourth-priority water entitlement for domestic use.

21. Water user entities responsible for payment of operation and maintenance costs for Reclamation projects in Arizona, California, Nevada, and Utah: Contracts for extraordinary maintenance and replacement funded pursuant to the ARRA.

Completed Contract Actions

4. Shepard Water Company, Inc., BCP, Arizona: Contract for the annual diversion of up to 50 acre-feet of Colorado River water, as recommended by the Arizona Department of Water Resources. Contract was executed January 30, 2009.

Upper Colorado Region: Bureau of Reclamation, 125 South State Street, Room 6107, Salt Lake City, Utah 84138-1102, telephone 801-524-3864.

New Contract Actions

1.(e) Horse Meadows Home Owners Association, Aspinall Unit, CRSP: The Association has requested a 40-year water service contract for 1 acre-foot of M&I water out of the Blue Mesa Reservoir, which requires them to present a Plan of Augmentation to the Division 4 Water Court.

1.(f) David Beaulieu, Aspinall Storage Unit, CRSP: Mr. Beaulieu has requested a 40-year water service contract for 1 acre-foot of M&I water out of the Blue Mesa reservoir, which requires Mr. Beaulieu to present a Plan of Augmentation to the Division 4 Water Court.

31. City of Santa Fe and Reclamation: Contract to store up to 50,000 acre-feet of San Juan-Chama Project Water in Elephant Butte Reservoir for a 40-year maximum term.

32. Water user entities responsible for payment of operation and maintenance costs for Reclamation projects in Arizona, Colorado, New Mexico, Texas, Utah, and Wyoming: Contracts for extraordinary maintenance and replacement funded pursuant to the ARRA.

Discontinued Contract Actions

1.(b) Mike and Marsha Jackson, Aspinall Storage Unit, CRSP: The Jacksons have requested a 40-year water service contract for 1 acre-foot of M&I water out of the Blue Mesa Reservoir, which requires the Jacksons to present a Plan of Augmentation to the Division 4 Water Court.

29. Horse Meadows Home Owners Association, Aspinall Unit, CRSP: The Association has requested a 40-year water service contract for 1 acre-foot of M&I water out of the Blue Mesa Reservoir, which requires them to present a Plan of Augmentation to the Division 4 Water Court.

Great Plains Region: Bureau of Reclamation, PO Box 36900, Federal Building, 316 North 26th Street, Billings, Montana 59101, telephone 406-247-7752.

New Contract Actions

40. Pryor Creek Land and Development Company, Huntley Project, Montana: Request for a long-term water service contract for M&I purposes for up to 200 acre-feet of water per year.

41. Grandview Cemetery Association of Saco, Milk River Project, Montana: Contract renewal for long-term water service for up to 14 acre-feet of water per year.

42. Individual contractors; Canyon Ferry Unit, P-SMBP; Montana: Replace temporary 1-year contracts with short-term water service contracts for minor amounts of less than 1,000 acre-feet of M&I water annually from the Missouri River, Canyon Ferry Dam.

43. Keyhole Country Club; Keyhole Unit, P-SMBP; South Dakota: Reclamation is contemplating a contract reassignment from the Shattuck Hills Homeowner's Association to the Keyhole Country Club. The proposed action will involve a change in the point of delivery for the 50 acre-feet of water under the existing contract.

44. Water user entities responsible for payment of operation and maintenance costs for Reclamation projects in Colorado, Kansas, Montana, Nebraska, North Dakota, Oklahoma, South Dakota, Texas, and Wyoming: Contracts for extraordinary maintenance and replacement funded pursuant to the ARRA.

Completed Contract Actions

20. Colorado River Water Conservation District, Colorado-Big Thompson Project, Colorado: Consideration of a request for a long-term contract for the use of excess capacity for storage and exchange in Green Mountain Reservoir in the Colorado-Big Thompson Project. Contract was executed March 11, 2009.

25. City of Beloit, P-SMBP, Kansas: Contract renewal for M&I contract. Contract was executed January 29, 2009.

35. City of Cheyenne, Kendrick Project, Wyoming: The City of Cheyenne has requested an amendment to its water storage contract to increase the storage entitlement to 15,700 acre-feet of storage space in Seminoe Reservoir. Contract was executed February 27, 2009.

Dated: May 8, 2009.
Roseann Gonzales,
Director, Policy and Program Services, Denver Office.

[FR Doc. E9-14823 Filed 6-23-09; 8:45 am]

BILLING CODE 4310-MN-P